INTERNATIONAL TRADE COMMISSION

[Inv. No. 337-TA-585]

In the Matter of Certain Engines, Components Thereof, and Products Containing the Same; Notice of Commission Determination Not To Review ALJ Order No. 6 Granting Complainant's Motion To Amend the Complaint and Notice of Investigation by Adding a Respondent

AGENCY: U.S. International Trade Commission.

ACTION: Notice.

SUMMARY: Notice is hereby given that the U.S. International Trade Commission has determined not to review an initial determination (“ID”) of the presiding administrative law judge (“ALJ”) (Order No. 6) granting complainant's motion to amend the complaint and the notice of investigation to add respondent Wuxi Kama Power Co. Ltd. to the investigation.

FOR FURTHER INFORMATION CONTACT: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On October 19, 2006, the Commission instituted an investigation under section 337 of the Tariff Act of 1930, 19 U.S.C. 1337, based on a complaint filed by American Honda Motor Company, Inc. of Torrance, California, alleging a violation of section 337 in the importation, sale for importation, and sale within the United States after importation of certain engines, components thereof, and products containing the same by reason of infringement of certain claims of U.S. Patent Nos. 5,706,769 and 6,250,273. 71 FR 61799 (Oct. 19, 2006). The complainant named Wuxi Kipor Power Co., Ltd. of Jiangsu, China as a respondent.

On January 24, 2007, the ALJ issued Order No. 6 granting complainant's motion to amend the complaint and the notice of investigation to add Wuxi Kama Power Co. Ltd. as a respondent to the investigation. No party petitioned for review of Order No. 6, and the Commission has determined not to review it.

The authority for the Commission's determination is contained in section 337 of the Tariff Act of 1930, as amended (19 U.S.C. 1337), and in section 210.42(h) of the Commission's Rules of Practice and Procedure (19 CFR 210.42(h)).

By order of the Commission.
Issued: February 23, 2007.
Marilyn R. Abbott,
Secretary to the Commission.

[FR Doc. E7-3587 Filed 2-28-07; 8:45 am]

BILLING CODE 7020-02-P